ENVIRONMENTAL PROTECTION AGENCY

40 CFR Part 52

[R06-OAR-2005-LA-0001; FRL-7910-7]

Approval and Promulgation of Air Quality Implementation Plans; Louisiana; Attainment Demonstration for the Shreveport-Bossier City Early Action Compact Area

AGENCY: Environmental Protection Agency (EPA).

ACTION: Proposed rule.

SUMMARY: The EPA is proposing to approve revisions to the State Implementation Plan (SIP) submitted by the Louisiana Department of Environmental Quality (LDEQ) on December 28, 2004. The proposed revisions will incorporate the Shreveport-Bossier City Metropolitan Statistical Area (MSA) Early Action Compact (EAC) Air Quality Improvement Plan (AQIP) into the Louisiana SIP. EPA is proposing approval of the photochemical modeling in support of the attainment demonstration of the 8-hour ozone standard within the Shreveport-Bossier City EAC area and is proposing approval of the associated control measures. EPA is proposing these actions as a strengthening of the SIP in accordance with the requirements of sections 110 and 116 of the Federal Clean Air Act (the Act). The revisions will contribute to improvement in air quality and continued attainment of the 8-hour National Ambient Air Quality Standard (NAAQS) for ozone.

DATES: Comments must be received on or before June 13, 2005.

ADDRESSES: Submit comments, identified by Regional Material in eDocket (RME) ID No. R06-OAR-2005-LA-0001, by one of the following methods:

Federal eRulemaking Portal: http://www.regulations.gov. Follow the on-line instructions for submitting comments.

Agency Web site: http://docket.epa.gov/rmepub/. Regional Material in eDocket (RME), EPA's electronic public docket and comment system, is EPA's preferred method for receiving comments. Once in the system, select “quick search,” then key in the appropriate RME Docket identification number. Follow the on-line instructions for submitting comments.

U.S. EPA Region 6 “Contact Us” Web site: http://epa.gov/region6/r6coment.htm. Please click on “6PD” (Multimedia) and select “Air” before submitting comments.

E-mail: Mr. Thomas Diggs at diggs.thomas@epa.gov. Please also cc the person listed in the FOR FURTHER INFORMATION CONTACT section below.

Fax: Mr. Thomas Diggs, Chief, Air Planning Section (6PD-L), at fax number 214-665-7263.

Mail: Mr. Thomas Diggs, Chief, Air Planning Section (6PD-L), Environmental Protection Agency, 1445 Ross Avenue, Suite 1200, Dallas, Texas 75202-2733.

Hand or Courier Delivery: Mr. Thomas Diggs, Chief, Air Planning Section (6PD-L), Environmental Protection Agency, 1445 Ross Avenue, Suite 1200, Dallas, Texas 75202-2733. Such deliveries are accepted only between the hours of 8 a.m. and 4 p.m. weekdays except for legal holidays. Special arrangements should be made for deliveries of boxed information.

Instructions: Direct your comments to Regional Material in eDocket (RME) ID No. R06-OAR-2005-LA-0001. The EPA's policy is that all comments received will be included in the public file without change, and may be made available online at http://docket.epa.gov/rmepub/, including any personal information provided, unless the comment includes information claimed to be Confidential Business Information (CBI) or other information the disclosure of which is restricted by statute. Do not submit information through Regional Material in eDocket (RME), http://www.regulations.gov, or e-mail if you believe that it is CBI or otherwise protected from disclosure. The EPA RME Web site and the federal http://www.regulations.gov are “anonymous access” systems, which means EPA will not know your identity or contact information unless you provide it in the body of your comment. If you send an e-mail comment directly to EPA without going through RME or http://www.regulations.gov, your e-mail address will be automatically captured and included as part of the comment that is placed in the public file and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the Regional Material in eDocket (RME) index at http://docket.epa.gov/rmepub/. Although listed in the index, some information is not publicly available, i.e., CBI or other information whose disclosure is restricted by statute. Certain other material, such as copyrighted material, is not placed on the Internet and will be publicly available only in hard copy form. Publicly available docket materials are available either electronically in RME or in the official file which is available at the Air Planning Section (6PD-L), Environmental Protection Agency, 1445 Ross Avenue, Suite 700, Dallas, Texas 75202-2733. The file will be made available by appointment for public inspection in the Region 6 FOIA Review Room between the hours of 8:30 a.m. and 4:30 p.m. weekdays except for legal holidays. Contact the person listed in the FOR FURTHER INFORMATION CONTACT paragraph below or Mr. Bill Deese at (214) 665-7253 to make an appointment. If possible, please make the appointment at least two working days in advance of your visit. There will be a 15 cents per page fee for making photocopies of documents. On the day of the visit, please check in at the EPA Region 6 reception area at 1445 Ross Avenue, Suite 700, Dallas, Texas.

The State submittal is also available for public inspection at the State Air Agency listed below during official business hours by appointment:

Louisiana Department of Environmental Quality, Office of Environmental Assessment, Airshed Planning Division, SIP Development Section, 602 North Fifth Street, Baton Rouge, Louisiana 70802.

FOR FURTHER INFORMATION CONTACT: Clovis Steib, III, Air Program Branch (6PD), EPA Region 6, 1445 Ross Avenue, Suite 1200, Dallas, Texas 75202-2733, telephone (214) 665-7566, steib.clovis@epa.gov. or Carrie Paige, Air Planning Section (6PD-L), EPA Region 6, 1445 Ross Avenue, Dallas, Texas 75202-2733, telephone (214) 665-6521, paige.carrie@epa.gov.

SUPPLEMENTARY INFORMATION: Throughout this document, wherever “we,” “our,” and “us” is used, we mean EPA.

Outline

I. What action are we proposing?

II. What is an EAC?

III. What is a SIP?

IV. What is the content of the Shreveport-Bossier City EAC attainment demonstration?

V. Why are we proposing to approve this EAC SIP submittal?

VI. What measures are we proposing to approve in this EAC SIP submittal?

VII. What happens if the area does not meet the EAC milestones?

VIII. Proposed Action

IX. Statutory and Executive Order Reviews

I. What Action Are We Proposing?

Today we are proposing to approve a revision to the Louisiana SIP, under sections 110 and 116 of the Act, submitted to EPA by the LDEQ on December 28, 2004. The revision demonstrates attainment of the 8-hour ozone NAAQS within the Shreveport-Bossier City MSA and requests approval of the Shreveport-Bossier City EAC AQIP into the Louisiana SIP. The EAC is a voluntary agreement between the LDEQ, the Greater Shreveport Clean Air Citizens Advisory Committee (CACAC) and EPA. Within this agreement, CACAC represents the three parishes of Caddo, Bossier and Webster and the cities of Shreveport and Bossier City. The intent of this agreement, known as the Shreveport-Bossier City EAC or the EAC, is to reduce ozone pollution and thereby maintain the 8-hour ozone standard. The Shreveport-Bossier City EAC AQIP is the official attainment/maintenance plan for the MSA which was developed under the EAC program. LDEQ has submitted the AQIP to EPA for approval as a revision to the Louisiana SIP. The revision demonstrates, with photochemical modeling, attainment and maintenance of the 8-hour ozone standard in the Shreveport-Bossier City EAC area and includes local control measures. The Shreveport-Bossier City AQIP also sets forth a schedule to develop additional technical information about local ozone pollution, and adopt and implement emissions control measures to ensure that the Shreveport-Bossier City MSA achieves compliance with the 8-hour ozone standard by December 31, 2007. Section VI of this rulemaking describes the control measures that will be implemented within the Shreveport-Bossier City EAC area.

The monitored ozone concentrations in the Shreveport-Bossier City EAC area have not exceeded the federal 1-hour ozone standard. The EPA designated the Shreveport-Bossier City EAC area as attainment for the 8-hour ozone standard on April 15, 2004 (69 FR 23858). The LDEQ has submitted these revisions to the SIP, with additional control measures, as preventive and progressive measures to avoid a future violation and to ensure long term maintenance of the 8-hour ozone standard within the affected area.

II. What Is an EAC?

The Early Action Compact program was developed to allow communities an opportunity to meet the new stricter 8-hour ozone air quality standard sooner than the Act requires for reducing ground level ozone. The program was designed for areas that approach or monitor exceedances of the 8-hour standard, but are in attainment for the 1-hour ozone standard. The compact is a voluntary agreement between local communities, State air quality officials and EPA, which allows participating State and local entities to make decisions that will accelerate meeting the new 8-hour standard using locally tailored pollution controls instead of federally mandated measures. Early planning and early implementation of control measures that improve air quality will likely accelerate protection of public health. The EPA believes this program provides an incentive for early planning, early implementation, and early reductions of emissions leading to expeditious attainment and maintenance of the 8-hour ozone standard.

Communities with EACs will have plans in place to reduce air pollution at least two years earlier than required by the Act. In December 2002, a number of States submitted compact agreements pledging to reduce emissions earlier than required by the Act for compliance with the 8-hour ozone standard. These States and local communities had to meet specific criteria and agreed to meet certain milestones for development and implementation of the compact. States with communities participating in the EAC program had to submit plans for meeting the 8-hour ozone standard by December 31, 2004, rather than June 15, 2007, the deadline for other areas not meeting the standard. The EAC program required communities to develop and implement air pollution control strategies, account for emissions growth and demonstrate their attainment and maintenance of the 8-hour ozone standard. Areas that adopted EACs must establish a clean air action plan, meet other established milestones and attain the 8-hr ozone standard by December 31, 2007. Greater details of the EAC program are explained in EPA's December 16, 2003 (68 FR 70108) proposed Federal Register notice entitled “Deferral of Effective Date of Nonattainment Designations for 8-hour Ozone National Ambient Air Quality Standards for Early Action Compact Areas.”

On April 15, 2004, EPA designated all areas for the 8-hour ozone standard. The EPA deferred the effective date of nonattainment designations for EAC areas that were violating the 8-hour standard, but continue to meet the compact milestones. Details of this deferral were announced on April 15, 2004 as part of the Clean Air Rules of 2004, and published in the Federal Register on April 30, 2004 in the notice entitled “Air Quality Designations and Classifications for the 8-Hour Ozone National Ambient Air Quality Standards; Early Action Compact Areas with Deferred Effective Dates” (69 FR 23858).

III. What Is a SIP?

The SIP is a set of air pollution regulations and control strategies developed by the state, to ensure that the state meets the National Ambient Air Quality Standards (NAAQS). These ambient standards are established under section 109 of the Act and they currently address six criteria pollutants: carbon monoxide, nitrogen dioxide, ozone, lead, particulate matter, and sulfur dioxide. The SIP is required by Section 110 of the Act. These SIPs can be extensive, containing state regulations or other enforceable documents and supporting information such as emission inventories, monitoring networks, and modeling demonstrations.

IV. What Is the Content of the Shreveport-Bossier City EAC Attainment Demonstration?

The attainment demonstration contains analyses which estimate whether selected emissions reductions will result in ambient concentrations that meet the 8-hour ozone standard in the Shreveport-Bossier City EAC area, and an identified set of measures which will result in the required emissions reductions. The demonstration incorporates the effects of population and industry growth, as well as national, state and local control measures required to be in place by 2007 and 2012. The modeled attainment test is passed if all resulting predicted future design values are less than 85 parts per billion (ppb). The design value is the three year average of the annual fourth highest 8-hour ozone readings.

In support of this proposal, the CACAC and LDEQ conducted an ozone photochemical modeling study developed for the Shreveport-Bossier City EAC area. This study meets EPA's modeling requirements and guidelines, including such items as the base year emissions inventory development, the growth rate projections, and the performance of the model. See our Technical Support Document (TSD) for detailed information on this modeling study.

The modeling submitted in support of this proposal simulated the complex processes leading to high ozone in the Shreveport-Bossier City EAC area. The modeling results indicate that, despite the area's expected growth in population between 2007 and 2012, the expected emission reductions from both the EAC AQIP measures and national measures provide improvement in ozone air quality and maintenance of the 8-hour standard in the EAC area. The modeling results demonstrate that the Shreveport-Bossier City EAC area would continue in attainment with the 8-hour ozone NAAQS in 2007 and 2012. The modeling predicts a maximum ozone design value of 84 ppb in 2007 and 83 ppb in 2012, both of which are below the 8-hour ozone standard of 85 ppb. The EPA is proposing to approve the LDEQ's 8-hour ozone attainment demonstration and AQIP, including the control measures listed in section VI, for the Shreveport-Bossier City EAC area.

V. Why Are We Proposing To Approve This EAC SIP Submittal?

We are proposing to approve this EAC SIP submittal because implementation of the requirements in this EAC AQIP will help ensure the Shreveport-Bossier City EAC area's compliance with the 8-hour ozone standard by December 13, 2007 and maintenance of that standard through 2012. We have reviewed the submittals and determined that they are consistent with the requirements of the Act, EPA's policy, and the EAC protocol. Our Technical Support Document (TSD) contains detailed information concerning this rulemaking action.

We are proposing approval of the EAC AQIP as a strengthening of the SIP which will yield improvements in air quality to the Shreveport-Bossier City EAC communities. EPA has determined that the State and local area have fulfilled the milestones and obligations of the EAC Program to date.

VI. What Measures Are Included in This EAC SIP Submittal?

To help achieve attainment, the CACAC developed a list of control measures for the EAC that the City of Shreveport and local, private industries have committed to implement by December 31, 2005. These control measures were adopted by the State, are quantifiable, permanent, and will provide reductions in nitrogen oxides (NOX) and volatile organic compounds (VOCs) in the Shreveport-Bossier City EAC area; NOX and VOCs are precursors to and aid in the formation of ozone.

Local control measures in the EAC AQIP have been included in the model runs and are predicted to provide the following reductions: (1) Installation of an intelligent transportation system in Shreveport, projected to reduce NOX by 0.01 tons per day (tpd) and VOCs by 0.048 tpd. (2) A permit modification for a VOC abatement system, installed at the General Motors plant in Caddo Parish as part of their new product line and is projected to reduce VOCs by 1.37 tpd. This is codified in Title V permit 0500-0047-V1, dated 7/31/2001 and PSD permit PSD-LA-646, dated 3/24/2000, issued by the LDEQ and submitted as part of the AQIP. (3) A permit modification at Center Point Energy in Bossier Parish is projected to reduce NOX by 2.56 tpd and VOCs by 0.014 tpd. The plant serves to remove natural gas liquids from gas streams for commercial purposes and an upgrade in the separation process will reduce the need for a significant number of process equipment and corresponding emissions from these units. The permit (0400-00006-02) was provided in the EAC SIP submittal. (4) The installation of energy conservation equipment in 33 city buildings throughout the EAC area is estimated to reduce NOX by 0.041 tpd. This measure is consistent with EPA's August 5, 2004 Guidance on SIP Credits for Emission Reductions from Electric-Sector Energy Efficiency and Renewable Energy Measures and EPA's September 2004 guidance on Incorporating Emerging and Voluntary Measures in a SIP. (5) The purchase and use of one hybrid electric bus in Shreveport is projected to reduce NOX by 0.002 tpd.

These local control measures are described in detail in the TSD and will be incorporated by reference in the Code of Federal Regulations in the final approval action. Detailed information is necessary for emission reduction measures in the SIP to ensure that they are specific and enforceable as required by the Act and the EAC protocol and reflected in our policy. The description of these emission reduction measures includes the identification of each project, location, length of each project (if applicable), a brief project description, implementation date and emissions reductions for both VOCs and NOX.

Though not quantified and thus not included in the modeling, installation and use of a gas collection system on Shreveport's municipal solid waste landfill is also expected to provide emission reductions.We are proposing to approve the local control measures listed above. In compliance with the next EAC milestone, these measures will be implemented on or before December 31, 2005. The TSD contains additional information on each of these control measures.

According to the EAC protocol, the AQIP must also include a component to address maintenance for growth at least 5 years beyond 2007, ensuring the area will remain in attainment of the 8-hour ozone standard through 2012. The Shreveport-Bossier City EAC area has developed an emissions inventory for the year 2012, as well as a continuing planning process to address this essential part of the plan.

The expected changes in emissions between 2000 and 2012 result in a 24 percent reduction in anthropogenic NOX emissions and a 21 percent reduction in anthropogenic VOC emissions. These projections indicate that precursor NOX and VOC emissions in the EAC area are expected to decrease further in 2012 compared to 2007 as a result of vehicle fleet turnover and a number of new national rules affecting on-road and off-road engine and fuel requirements (see the TSD for details on the Clean Air Diesel and Clean Air Nonroad Diesel rules). Using air quality models to anticipate the impact of growth, as well as the federal, state-assisted and locally-implemented measures to reduce emissions, the State has projected the area will be in attainment of the 8-hour ozone standard in 2007 and will remain in attainment through 2012.

To fulfill the planning process, the EAC signatories will review all EAC activities and report on these results in their semi-annual reports, beginning in June 2005. The semi-annual reviews will provide a description of whether the area continues to implement its control measures, the emissions reductions being achieved by the control measures in place, and the improvements in air quality that are being made. Each report must track and document, at a minimum, control strategy implementation and results, monitoring data and future plans. Ongoing, updated emissions inventories and modeling analyses will be included as they become available. After each semi-annual review, additional control measures may be considered and, if necessary, adopted through revisions to this SIP.

The elements that address maintenance for growth meet the EAC protocol. EPA has reviewed the modeling and emission projections and proposes to approve the demonstration of attainment.

VII. What Happens if the EAC Area Does Not Meet the EAC Milestones?

On April 15, 2004, EPA designated the Shreveport-Bossier City EAC area as attainment for the 8-hour ozone standard. The measures outlined in the Shreveport-Bossier City EAC SIP submittal provide sufficient information to conclude that the Shreveport-Bossier City EAC area will complete each compact milestone requirement, including attainment of the 8-hour ozone standard by 2007. However, one of the principles of the EAC protocol is to provide safeguards to return areas to traditional SIP requirements should an area fail to comply with the terms of the compact. If, as outlined in our guidance and in 40 CFR 81.300, a compact milestone is missed and the Shreveport-Bossier City EAC area is still in attainment of the 8-hour ozone standard, we would take action to propose and promulgate a finding of failure to meet the milestone, but the 8-hour ozone attainment designation and the approved SIP elements would remain in effect. If the EAC area subsequently violates the 8-hour ozone standard and the area has missed a compact milestone, we would also consider factors in section 107(d)(3)( A) of the Act in deciding whether to redesignate the EAC area to nonattainment for the 8-hour ozone NAAQS. See 69 FR 23858, 23871.

VIII. Proposed Action

EPA is proposing to approve the attainment demonstration, its associated control measures, and the Shreveport-Bossier City EAC AQIP and incorporate these into the Louisiana SIP as a strengthening of the SIP. The modeling of ozone and ozone precursor emissions from sources in the Shreveport-Bossier City EAC area demonstrate that the specified control strategies will provide for attainment of the 8-hour ozone NAAQS by December 31, 2007.

IX. Statutory and Executive Order Reviews

Under Executive Order 12866 (58 FR 51735, October 4, 1993), this proposed action is not a “significant regulatory action” and therefore is not subject to review by the Office of Management and Budget. For this reason and because this action will not have a significant, adverse effect on the supply, distribution, or use of energy, this action is also not subject to Executive Order 13211, “Actions Concerning Regulations That Significantly Effect Energy Supply, Distribution, or Use” (66 FR 28355, May 22, 2001). This proposed action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Public Law 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely proposes to approve a state rule implementing a Federal standard, and does not alter the relationship or the distribution of power and responsibilities established in the Clean Air Act. This proposed rule also is not subject to Executive Order 13045 “Protection of Children from Environmental Health Risks and Safety Risks” (62 FR 19885, April 23, 1997), because it is not economically significant.

In reviewing SIP submissions under the National Technology Transfer and Advancement Act of 1995 (15 U.S.C. 272 note), EPA's role is to approve state actions, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 do not apply. This proposed rule does not impose an information collection burden under the provisions of the Paperwork Reduction Act of 1995 (44 U.S.C. 3501 et seq.).

List of Subjects 40 CFR Part 52

Environmental protection, Air pollution control, Incorporation by reference, Intergovernmental relations, Nitrogen dioxide, Ozone, Reporting and recordkeeping requirements, Volatile organic compounds.

Authority: 42 U.S.C. 7401 et seq.

Dated: May 4, 2005.
Richard E. Greene,
Regional Administrator, Region 6.

[FR Doc. 05-9481 Filed 5-11-05; 8:45 am]

BILLING CODE 6560-50-P